DEPARTMENT OF COMMERCE

Foreign-Trade Zones Board

[S-203-2025]

Foreign-Trade Zone 173; Application for Subzone; PINNACLEMOD LLC; Aberdeen, Washington

An application has been submitted to the Foreign-Trade Zones (FTZ) Board by the Port of Grays Harbor, grantee of FTZ 173, requesting subzone status for the facility of PINNACLEMOD LLC, located in Aberdeen, Washington. The application was submitted pursuant to the provisions of the Foreign-Trade Zones Act, as amended (19 U.S.C. 81a-81u), and the regulations of the FTZ Board (15 CFR part 400). It was formally docketed on July 1, 2025.

The proposed subzone (39.97 acres) is located at 901, 1017, and 1209 South Boone Street, Aberdeen, Washington. A notification of proposed production activity has been submitted and is being processed under 15 CFR 400.37 (Doc. B-28-2025). The proposed subzone would be subject to the existing activation limit of FTZ 173.

In accordance with the FTZ Board's regulations, Qahira El-Amin of the FTZ Staff is designated examiner to review the application and make recommendations to the Executive Secretary.

Public comment is invited from interested parties. Submissions shall be addressed to the FTZ Board's Executive Secretary and sent to: ftz@trade.gov. The closing period for their receipt is August 18, 2025. Rebuttal comments in response to material submitted during the foregoing period may be submitted through September 2, 2025.

A copy of the application will be available for public inspection in the “Online FTZ Information Section” section of the FTZ Board's website, which is accessible via www.trade.gov/ftz.

For further information, contact Qahira El-Amin at Qahira.El-Amin@trade.gov.

Dated: July 1, 2025.
Elizabeth Whiteman,
Executive Secretary.

[FR Doc. 2025-12524 Filed 7-3-25; 8:45 am]

BILLING CODE 3510-DS-P